DEPARTMENT OF ENERGY

Federal Energy Regulatory Commission

Combined Notice Of Filings #1

June 18, 2009.

Take notice that the Commission received the following exempt wholesale generator filings:

Docket Numbers: EG09-52-000.

Applicants: Escondido Energy Center, LLC.

Description: Notice of Self-Certification of EWG Status of Escondido Energy Center, LLC.

Filed Date: 06/15/2009.

Accession Number: 20090615-5111.

Comment Date: 5 p.m. Eastern Time on Monday, July 6, 2009.

Docket Numbers: EG09-53-000.

Applicants: Chula Vista Energy Center, LLC.

Description: Notice of Self-Certification of Exempt Wholesale Generator Status of Chula Vista Energy Center, LLC.

Filed Date: 06/15/2009.

Accession Number: 20090615-5117.

Comment Date: 5 p.m. Eastern Time on Monday, July 6, 2009.

Docket Numbers: EG09-54-000.

Applicants: Northwest Wind Partners, LLC.

Description: Notice of Self-Certification of Exempt Wholesale Generator Status of Northwest Wind Partners, LLC.

Filed Date: 06/15/2009.

Accession Number: 20090615-5138.

Comment Date: 5 p.m. Eastern Time on Monday, July 6, 2009.

Docket Numbers: EG09-55-000.

Applicants: GenConn Middletown LLC.

Description: GenConn Middletown LLC's Notice of Self Certification of Exempt Wholesale Generator Status.

Filed Date: 06/15/2009.

Accession Number: 20090615-5145.

Comment Date: 5 p.m. Eastern Time on Monday, July 6, 2009.

Docket Numbers: EG09-56-000.

Applicants: GenConn Devon LLC.

Description: GenConn Devon LLC's Notice of Self Certification of Exempt Wholesale Generator Status.

Filed Date: 06/15/2009.

Accession Number: 20090615-5146.

Comment Date: 5 p.m. Eastern Time on Monday, July 6, 2009.

Docket Numbers: EG09-57-000.

Applicants: NaturEner Glacier Wind Energy 2, LLC.

Description: Notice of Self-Certification of Exempt Wholesale Generator Status of NaturEner Glacier Wind Energy 2, LLC.

Filed Date: 06/17/2009.

Accession Number: 20090617-5124.

Comment Date: 5 p.m. Eastern Time on Wednesday, July 8, 2009.

Docket Numbers: EG09-58-000.

Applicants: NaturEner Montana Wind Energy 2, LLC.

Description: Notice of Self-Certification of Exempt Wholesale Generator Status of NaturEner Montana Wind Energy 2, LLC.

Filed Date: 06/17/2009.

Accession Number: 20090617-5125.

Comment Date: 5 p.m. Eastern Time on Wednesday, July 8, 2009.

Take notice that the Commission received the following electric rate filings:

Docket Numbers: ER06-1355-003.

Applicants: Evergreen Wind Power, LLC.

Description: Evergreen Wind Power, LLC submits a revised market-based tariff that reflects the correct tariff sheet designations.

Filed Date: 06/11/2009.

Accession Number: 20090616-0135.

Comment Date: 5 p.m. Eastern Time on Thursday, July 2, 2009.

Docket Numbers: ER07-53-001.

Applicants: American Transmission Company, LLC.

Description: American Transmission Co, LLC submits an executed Large Generator Interconnection Agreement.

Filed Date: 06/15/2009.

Accession Number: 20090617-0051.

Comment Date: 5 p.m. Eastern Time on Monday, July 6, 2009.

Docket Numbers: ER08-1574-006.

Applicants: ORNI 18, LLC.

Description: Notice of Non-Material Change in Status of ORNI 18, LLC.

Filed Date: 06/17/2009.

Accession Number: 20090617-5155.

Comment Date: 5 p.m. Eastern Time on Wednesday, July 8, 2009.

Docket Numbers: ER09-759-002.

Applicants: E. ON U.S. LLC.

Description: EON US LLC submits Network Integration Transmission Service Agreement and Network Operating Agreement for service to the Kentucky Municipal Power Agency.

Filed Date: 06/15/2009.

Accession Number: 20090617-0002.

Comment Date: 5 p.m. Eastern Time on Monday, July 6, 2009.

Docket Numbers: ER09-949-001.

Applicants: Central Illinois Light Company, Central Illinois Public Service Company, Illinois Power Company.

Description: Central Illinois Light Company et al. submit Original Sheet 1 et al. First Revised Rate Schedule FERC No 43.

Filed Date: 06/15/2009.

Accession Number: 20090615-0046.

Comment Date: 5 p.m. Eastern Time on Monday, July 6, 2009.

Docket Numbers: ER09-1142-001.

Applicants: New York Independent System Operator, Inc.

Description: New York Independent System Operator, Inc submits Second Revised Sheet No 467.00A et al. to FERC Electric Tariff, Original Volume 2.

Filed Date: 06/17/2009.

Accession Number: 20090618-0089.

Comment Date: 5 p.m. Eastern Time on Wednesday, June 24, 2009.

Docket Numbers: ER09-1210-001.

Applicants: Wells Fargo Commodities, LLC.

Description: Wells Fargo Commodities, LLC submits Original Sheets No 2 and No 4 to FERC Electric Tariff, Original Volume 1.

Filed Date: 06/17/2009.

Accession Number: 20090618-0088.

Comment Date: 5 p.m. Eastern Time on Wednesday, July 8, 2009.

Docket Numbers: ER09-1295-000.

Applicants: El Paso Electric Company.

Description: El Paso Electric Company Request for Waiver Authorization Pursuant to Section 205.

Filed Date: 06/12/2009.

Accession Number: 20090612-5047.

Comment Date: 5 p.m. Eastern Time on Monday, July 6, 2009.

Docket Numbers: ER09-1297-000.

Applicants: Northern Colorado Wind Energy, LLC.

Description: Northern Colorado Wind Energy, LLC's request for authorization to sell energy and capacity at market-based rates, and waiver of the 60-day notice requirements.

Filed Date: 06/12/2009.

Accession Number: 20090616-0054.

Comment Date: 5 p.m. Eastern Time on Monday, July 6, 2009.

Docket Numbers: ER09-1300-000.

Applicants: GenConn Devon, LLC.

Description: GenConn Devon, LLC submits for acceptance Original Sheet 1 to FERC Electric Tariff, Original Volume 1 to be effective 7/30/09.

Filed Date: 06/15/2009.

Accession Number: 20090616-0052.

Comment Date: 5 p.m. Eastern Time on Monday, July 6, 2009.

Docket Numbers: ER09-1301-000.

Applicants: GenConn Middletown, LLC.

Description: GenConn Middletown, LLC submits Original Sheet 1 et al. to FERC Electric Tariff, Original Volume 1 to be effective 7/30/09.

Filed Date: 06/15/2009.

Accession Number: 20090616-0053.

Comment Date: 5 p.m. Eastern Time on Monday, July 6, 2009.

Docket Numbers: ER09-1302-000.

Applicants: Northwest Wind Partners, LLC.

Description: Northwest Wind Partners, LLC submits Petition requesting acceptance of FERC Electric Tariff, Original Volume 1.

Filed Date: 06/16/2009.

Accession Number: 20090617-0053.

Comment Date: 5 p.m. Eastern Time on Tuesday, July 7, 2009.

Docket Numbers: ER09-1305-000.

Applicants: Maine Public Service Company.

Description: Maine Public Service Company submits informational filing setting forth the changes in open access transmission tariff charges effective 6/1/09 together with back-up material.

Filed Date: 06/15/2009.

Accession Number: 20090616-0146.

Comment Date: 5 p.m. Eastern Time on Monday, July 6, 2009.

Docket Numbers: ER09-1306-000.

Applicants: Kansas City Power & Light Company.

Description: Kansas City Power & Light Company submits Original Sheet 1, Rate Schedule FERC 132 to be effective 8/14/09.

Filed Date: 06/15/2009.

Accession Number: 20090616-0147.

Comment Date: 5 p.m. Eastern Time on Monday, July 6, 2009.

Docket Numbers: ER09-1307-000.

Applicants: EnergyConnect, Inc.

Description: EnergyConnect, Inc submits an application for authorization to sell energy, capacity and/or ancillary services through the provisions of demand response services in wholesale transactions etc.

Filed Date: 06/16/2009.

Accession Number: 20090618-0113.

Comment Date: 5 p.m. Eastern Time on Tuesday, July 7, 2009.

Docket Numbers: ER09-1308-000.

Applicants: Westar Energy, Inc.

Description: Westar Energy, Inc submits FERC Electric Rate Schedule 323, a Supplemental Generation Agreement with the City of Osage City, Kansas dated as of 6/15/09.

Filed Date: 06/16/2009.

Accession Number: 20090617-0026.

Comment Date: 5 p.m. Eastern Time on Tuesday, July 7, 2009.

Docket Numbers: ER09-1315-000.

Applicants: Southern California Edison Company.

Description: Southern California Edison Company submits First Revised Sheet 30A to an Agreement for Interconnection Service Agreement 2 with California Independent System Operator Corp et al.

Filed Date: 06/17/2009.

Accession Number: 20090618-0091.

Comment Date: 5 p.m. Eastern Time on Wednesday, July 8, 2009.

Docket Numbers: ER09-1316-000.

Applicants: Midwest Independent Transmission System Operator, Inc.

Description: Midwest Independent Transmission System Operator, Inc submits a Facilities Construction Agreement with Heartland Wind LLC etc.

Filed Date: 06/17/2009.

Accession Number: 20090618-0090.

Comment Date: 5 p.m. Eastern Time on Wednesday, July 8, 2009.

Take notice that the Commission received the following open access transmission tariff filings:

Docket Numbers: OA08-18-002.

Applicants: Black Hills Colorado Electric Utility Company, LP

Description: Black Hills Colorado Electric Utility Co, LP submits a revised version of Attachment K to its open access transmission tariff.

Filed Date: 06/15/2009.

Accession Number: 20090617-0004.

Comment Date: 5 p.m. Eastern Time on Monday, July 6, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to any subscribed dockets(s). For assistance with any FERC Online service, please e-mail FERCOnlineSupport@ferc.gov. or call (866) 208-3676 (toll free). For TTY, call (202) 502-8659.

Nathaniel J. Davis, Sr.,
Deputy Secretary.

[FR Doc. E9-15262 Filed 6-26-09; 8:45 am]

BILLING CODE 6717-01-P